DEPARTMENT OF JUSTICE

Notice of Lodging of Consent Decree Pursuant to the Comprehensive Environmental Response, Compensation, and Liability Act

Notice is hereby given that a consent decree in United States v. Warehouse 81 Limited Partnership, et al., Civil Action No. 4:00-CV-1549 (M.D. Pa.) was lodged with the court on August 30, 2000.

The proposed decree resolves claims of the United States against Warehouse 81 Limited Partnership and Michael Sabia under sections 106 and 107 of the Comprehensive Environmental Response, Compensation and Liability Act, as amended (“CERCLA”), 42 U.S.C. 9606 and 9607, for response costs and actions at the MW Manufacturing Superfund Site in Valley Township, Montour County, PA. The decree requires the defendants to reimburse the United States $31,000 in response costs and to implement specified response actions selected by EPA for the Site.

The Department of Justice will receive, for a period of thirty (30) days from the date of this publication, comments relating to the proposed consent decree. Comments should be addressed to the Assistant Attorney General for the Environment and Natural Resources Division, Department of Justice, Washington, DC 20530, and should refer to United States v. Warehouse 81 Limited Partnership, Civil Action No. 4:00-CV-1549 (M.D. Pa.), DOJ Ref. #90-11-3-06793.

The proposed consent decree may be examined and copies at the Office of the United States Attorney, Room 1162, Federal Building, 228 Walnut Street, Harrisburg, PA 17108; or at the Region III Office of the Environmental Protection Agency, c/o Thomas Cinti, Assistant Regional Counsel, 1650 Arch Street, Philadelphia, PA 19103. A copy of the proposed consent decree may be obtained by mail from the Consent Decree Library, P.O. Box No. 7611, Washington, DC 20044. In requesting a copy, please refer to the referenced case and enclose a check in the amount of $9.00 (25 cents per page reproduction costs), payable to the Consent Decree Library.

Walker Smith,
Deputy Chief, Environmental Enforcement Section, Environment and Natural Resources Division.

[FR Doc. 00-24084 Filed 9-19-00; 8:45 am]

BILLING CODE 4410-15-M